SECURITIES AND EXCHANGE COMMISSION

[File No. 500-1]

Aventura Equities, Inc.; Order of Suspension of Trading

March 5, 2014

It appears to the Securities and Exchange Commission that there is a lack of current and accurate information concerning the securities of Aventura Equities, Inc. (“Aventura”) because of questions concerning the adequacy and accuracy of publicly available information about Aventura, including, among other things, its financial condition, the control of the company, its business operations, and trading in its securities. Aventura is a Florida corporation based in Georgetown, South Carolina, and is traded under the symbol “AVNE.”

The Commission is of the opinion that the public interest and the protection of investors require a suspension of trading in the securities of the above-listed company.

Therefore, it is ordered, pursuant to Section 12(k) of the Securities Exchange Act of 1934, that trading in the securities of the above-listed company is suspended for the period from 9:30 a.m. EST, on March 5, 2014, through 11:59 p.m. EDT, on March 18, 2014.

By the Commission.
Jill M. Peterson,
Assistant Secretary.

[FR Doc. 2014-05084 Filed 3-5-14; 4:15 pm]

BILLING CODE 8011-01-P